DEPARTMENT OF HOMELAND SECURITY

Coast Guard

33 CFR Part 100

[Docket No. USCG-2022-0628]

Special Local Regulations; Marine Events Within the Seventh Coast Guard District

AGENCY: Coast Guard, Department of Homeland Security (DHS).

ACTION: Notification of enforcement of regulation.

SUMMARY: The Captain of the Port (COTP) Savannah, Georgia will enforce a special local regulation for the Ironman Triathlon in Augusta, Georgia, on September 25, 2022, to provide for the safety of life on navigable waterways during this event. Our regulation for marine events within the Seventh Coast Guard District identifies the regulated area for this event in Augusta, GA. During the enforcement periods, the operator of any vessel in the regulated area must comply with directions from the Patrol Commander or any Official Patrol displaying a Coast Guard ensign.

DATES: The regulations in 33 CFR 100.701 will be enforced for the location identified in Section (d), Item 3 of Table 1 to § 100.701, from 6:30 a.m. until 10:30 a.m., on September 25, 2022.

FOR FURTHER INFORMATION CONTACT: If you have questions about this notification of enforcement, contact Coast Guard Marine Safety Unit Savannah, Office of Waterways Management, by calling or emailing MSTC Ashley Schad, telephone 912-652-4353 ext 242, or email Ashley.M.Schad@uscg.mil.

SUPPLEMENTARY INFORMATION: The Coast Guard will enforce a special local regulation in 33 CFR 100.701, Table 1 to § 100.701, Section (d), Item 3, for the Ironman Triathlon, from 6:30 a.m. to 10:30 a.m., on September 25, 2022.

This action is being taken to provide for the safety of life on navigable waterways during this event. Our regulation for marine events within the Seventh Coast Guard District, 33 CFR 100.701, specifies the location of the regulated area for the Ironman Triathlon which encompasses portions of the Savannah River and its branches. During the enforcement periods, as reflected in 33 CFR 100.701(c), if you are the operator of a vessel in the regulated area you must comply with directions from the Patrol Commander. The Coast Guard may be assisted by other Federal, State, or local law enforcement agencies in enforcing this regulation.

In addition to this notification of enforcement in the Federal Register, the Coast Guard plans to provide notification of this enforcement period via the Local Notice to Mariners, and marine information broadcasts.

K.A. Broyles,
Commander, U.S. Coast Guard, Captain of the Port Savannah.

[FR Doc. 2022-19741 Filed 9-12-22; 8:45 am]

BILLING CODE 9110-04-P